DEPARTMENT OF THE INTERIOR

Bureau of Land Management

[MT-050-1610-DR-018E]

Notice of Availability of the Record of Decision for the Dillon Resource Management Plan and Environmental Impact Statement (EIS), Beaverhead and Madison Counties, MT

AGENCY: Bureau of Land Management, Interior.

ACTION: Notice of availability (NOA).

SUMMARY: In accordance with the National Environmental Policy Act (NEPA), the Federal Land Policy and Management Act (FLPMA), and Bureau of Land Management (BLM) management policies, the BLM announces the availability of the Record of Decision (ROD) for the Dillon Resource Management Plan (RMP) in Beaverhead and Madison counties, southwest Montana. The BLM Montana/Dakotas State Director signed the ROD and approved the RMP. Publication of the NOA announces the availability of the document and starts the 30-day appeal period on implementation decisions (route designations) described in the ROD. All decisions were effective upon approval of the ROD/RMP.

ADDRESSES: Copies of the Dillon Field Office ROD/RMP are available upon request from the Field Manager, Dillon Field Office, Bureau of Land Management, 1005 Selway Drive, Dillon, Montana 59725; via the Internet at http://www.mt.blm.gov/dfo/rmp (subject to change); or by calling (406) 683-2337.

FOR FURTHER INFORMATION CONTACT: Tim Bozorth, Field Manager, BLM Dillon Field Office, 1005 Selway Drive, Dillon, Montana 59725, telephone (406) 683-2337, fax (406) 683-8066.

SUPPLEMENTARY INFORMATION: The Dillon RMP was developed with broad public participation through a 4-year collaborative planning process that started in 2001. This RMP addresses management on approximately 900,000 acres of public land and 1.3 million acres of Federal mineral estate located in Beaverhead and Madison Counties in southwestern Montana. The Dillon RMP replaces the September 1979 Dillon Management Framework Plan (MFP). The Dillon RMP is designed to achieve or maintain desired future conditions developed through the planning process. It includes a series of management actions to meet the desired resource conditions for upland and riparian vegetation; forest and woodland vegetation; wildlife habitats; and cultural, paleontological, and visual resources while providing for livestock grazing, recreation, forest product sales, mineral development, rights-of-ways, and other land uses, and designates eight areas as Areas of Critical Environmental Concern (ACECs).

The Dillon RMP establishes open, closed and limited travel areas as described in the Travel Management and OHV Use section of the approved RMP in accordance with provisions in 43 CFR 8342. These designations supersede all other prior off-road vehicle travel designations for lands managed by the BLM Dillon Field Office. The Dillon RMP implementation decisions on route designations are now subject to a 30-day appeal period. The specific route designations addressed in the Record of Decision are found on Maps 26 and 27 of the approved Dillon RMP. Specific instructions on how to file an appeal on route designation decisions can be found in the Implementation Decisions section of the ROD. Appeals should state the specific route(s) by Township, Range, and Section to clarify which decisions are being appealed.

The BLM received seven protests on the Proposed Dillon RMP/Final Environmental Impact Statement (PRMP/FEIS). With two exceptions, as described in the Notice of Modifications section of the Record of Decision, the approved Dillon RMP is essentially unchanged from Alternative B in the April 2005 PRMP/FEIS. In response to one protest, the proposed prescription to manage for a minimum of 12-inch residual tall emergent wetland vegetation in wetland and waterfowl production areas in the Centennial Valley was modified to manage the density and height of emergent wetland vegetation to provide residual nesting cover and concealment for trumpeter swans and other waterfowl without imposing a specific vegetative height. Internal review also resulted in modification to the proposed decision to establish user days by Outfitter Permit Area for outfitted big game hunting. Specific use levels will be reviewed and established within 2 years of issuance of the ROD, but will not exceed historical levels as intended in the proposed RMP decision. Some minor modifications were also made in preparing the ROD/RMP to correct errors noted during review of the PRMP/FEIS and/or to provide further clarification for some of the decisions. The section titled Clarifications in the ROD identifies these corrections and clarifications, none of which, considered either singly or together, constitute a significant change to the PRMP. In addition, no inconsistencies with State or local plans, policies or programs were identified during the Governor's Consistency Review of the PRMP/FEIS.

Dated: January 11, 2006.
Howard A. Lemm,
Acting State Director.

[FR Doc. E6-5479 Filed 4-13-06; 8:45 am]

BILLING CODE 4310-$$-P